DEPARTMENT OF DEFENSE

Office of the Secretary

[Transmittal No. 22-64]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 22-64, Policy Justification, and Sensitivity of Technology.

Dated: September 9, 2024.
Aaron T. Siegel,
Alternate OSD Federal Register Liaison Officer, Department of Defense.

BILLING CODE 6001-FR-P

BILLING CODE 6001-FR-C

Transmittal No. 22-64

Notice of Proposed Issuance of Letter of Offer Pursuant to Section 36(b)(1) of the Arms Export Control Act, as amended

(i) Prospective Purchaser: Government of Finland

(ii) Total Estimated Value:

Major Defense Equipment * | $164.1 million
Other | $159.2 million
TOTAL | $323.3 million

(iii) Description and Quantity or Quantities of Articles or Services under Consideration for Purchase:

Major Defense Equipment (MDE):

Forty (40) AIM 9X Block II Tactical Missiles

Four (4) AIM 9X Block II Tactical Guidance Units

Forty-eight (48) AGM-154 Joint Stand Off Weapons (JSOW)

Non-MDE:

Also included are Dummy Air Training Missiles (DATM); Captive Air Training Missile (CATM); Captive Flight Vehicles (CFVs); Free Flight Vehicles (FFVs); containers; mission planning; integration support and testing; munitions storage security and training; weapon operational flight program software development; transportation; tools and test equipment; support equipment; spare and repair parts; publications and technical documentation; personnel training and training equipment; U.S. Government and contractor engineering and logistics support services; books and other publications; training; training aids and devices; space parts; support equipment; weapon system software support; U.S. Government and contractor engineering; technical and logistics support services; studies and surveys; missile technical assistance; other technical assistance; and other related elements of program and logistics support.

(iv) Military Department: Navy (FI-P-AAT, FI-P-AAU)

(v) Prior Related Cases, if any: FI-P-AAS, FI-P-AAI, FI-P-GAT, FI-P-LDB, FI-P-LBM

(vi) Sales Commission, Fee, etc., Paid, Offered, or Agreed to be Paid: None

(vii) Sensitivity of Technology Contained in the Defense Article or Defense Services Proposed to be Sold: See Attached Annex

(viii) Date Report Delivered to Congress: November 28, 2022

* As defined in Section 47(6) of the Arms Export Control Act.

POLICY JUSTIFICATION

Finland—AIM 9X Block II Tactical Missiles and AGM-154 Joint Standoff Weapons

The Government of Finland has requested to buy forty (40) AIM 9X Block II tactical missiles; four (4) AIM 9X Block II tactical guidance units; and forty-eight (48) AGM-154 Joint Stand Off Weapons (JSOW). Also included are Dummy Air Training Missiles (DATM); Captive Air Training Missile (CATM); Captive Flight Vehicles (CFVs); Free Flight Vehicles (FFVs); containers; mission planning; integration support and testing; munitions storage security and training; weapon operational flight program software development; transportation; tools and test equipment; support equipment; spare and repair parts; publications and technical documentation; personnel training and training equipment; U.S. Government and contractor engineering and logistics support services; books and other publications; training; training aids and devices; space parts; support equipment; weapon system software support; U.S. Government and contractor engineering; technical and logistics support services; studies and surveys; missile technical assistance; other technical assistance; and other related elements of program and logistics support. The total estimated cost is $323.3 million.

This proposed sale will support the foreign policy and national security of the United States by improving the security of a trusted partner, which is an important force for political stability and economic progress in Europe. It is vital to the U.S. national interest to assist Finland in developing and maintaining a strong and ready self-defense capability.

The proposed sale will improve Finland's air-to-air and air-to-surface weapons capabilities and will positively impact U.S. relations with countries in the Nordic region. Finland intends to use these defense articles and services for its fighter aircraft fleet. Finland will have no difficulty absorbing this equipment into its armed forces.

The proposed sale of this equipment and support will not alter the basic military balance in the region.

The principal contractors will be Raytheon Missiles and Defense, Tucson, AZ. There are no known offset agreements proposed in connection with this potential sale.

Implementation of the proposed sale will require U.S. Government and contractor representatives to visit Finland on a temporary basis in conjunction with program technical oversight and support requirements, including program and technical reviews.

There will be no adverse impact on U.S. defense readiness as a result of this proposed sale.

Transmittal No. 22-64

Notice of Proposed Issuance of Letter of Offer Pursuant to Section 36(b)(1) of the Arms Export Control Act

Annex

Item No. vii

(vii) Sensitivity of Technology:

1. The AIM 9X Block II Tactical Missile is a datalink-enabled, launch and leave, air combat munition that uses passive Infrared (IR) energy to acquire and track enemy air targets. The AIM-9X Block II Sidewinder continues the evolution of the AIM-9 series of missiles.

2. The AGM-154 JSOW is a precision strike weapon with a 500-pound blast/fragmentation/penetrator warhead effective against fixed-point targets. It includes GPS/INS guidance, and an uncooled, long-wave imaging infrared seeker with autonomous target acquisition algorithms for precise targeting.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Finland can provide substantially the same degree of protection for the sensitive technology being released as the U.S. Government. This sale is necessary in furtherance of the U.S. foreign policy and national security objectives outlined in the Policy Justification.

6. All defense articles and services listed in this transmittal have been authorized for release and export to the Government of Finland.

[FR Doc. 2024-20726 Filed 9-11-24; 8:45 am]

BILLING CODE 6001-FR-P